DEPARTMENT OF ENERGY

Federal Energy Regulatory Commission

[Project No. 1881-050]

PPL Holtwood, LLC; Notice of Application Accepted for Filing, Soliciting Motions To Intervene and Protests, Ready for Environmental Analysis, and Soliciting Comments, Recommendations, Terms and Conditions, and Fishway Prescriptions

February 21, 2008.

Take notice that the following hydroelectric application has been filed with the Commission and is available for public inspection:

a. Application Type: Amendment of license to increase the installed capacity.

b. Project No.: 1881-050.

c. Date Filed: December 20, 2007, and supplemented on January 4 and February 20, 2008.

d. Applicant: PPL Holtwood, LLC.

e. Name of Project: Holtwood Hydroelectric Project.

f. Location: The project is located on the Susquehanna River, in Lancaster and York Counties, Pennsylvania.

g. Filed Pursuant to: Federal Power Act, 16 U.S.C. 791a-825r.

h. Applicant Contact: Dennis J. Murphy, Vice President & Chief Operating Officer, PPL Holtwood, LLC, Two North Ninth Street (GENPL6), Allentown, Pennsylvania 18101; telephone (610) 774-4316.

i. FERC Contact: Linda Stewart, telephone: (202) 502-6680, and e-mail: linda.stewart@ferc.gov.

j. Deadline for filing motions to intervene and protests, comments, recommendations, terms and conditions, and fishway prescriptions is 60 days from the issuance of this notice; reply comments are due 105 days from the issuance date of this notice. All documents (original and eight copies) should be filed with: Kimberly D. Bose, Secretary, Federal Energy Regulatory Commission, 888 First Street, NE., Washington, DC 20426.

The Commission's Rules of Practice and Procedure require all intervenors filling documents with the Commission to serve a copy of that document on each person in the official service list for the project. Further, if an intervenor files comments or documents with the Commission relating to the merits of an issue that may affect the responsibilities of a particular resource agency, they must also serve a copy of the document on that resource agency.

k. Description of Request:

(i) Amendment to Project Design: PPL Holtwood proposes to increase the installed capacity of the Holtwood Project by constructing a new powerhouse with two turbine generator units, installing two new generating units in the existing powerhouse, and refurbishing four generating units in the existing powerhouse (Units 1, 2, 4, and 7). The total installed capacity of the project would increase from 107.2 megawatts to 195.5 megawatts and the total hydraulic capacity of the project would increase from 31,500 cubic feet per second to approximately 61,460 cubic feet per second. PPL Holtwood also proposes to construct a new skimmer wall upstream of the powerhouses, and to perform excavation in the forebay to replace deteriorating infrastructure as well as enable flows to enter the new generating units. In order to improve fish passage at the project, PPL Holtwood proposes to: (1) Modify the existing fish lift; (2) reroute the discharge of Unit 1 in the existing powerhouse; and (3) excavate in the project tailrace and spillway. PPL Holtwood also proposes to implement additional measures to enhance migratory fish passage, provide for minimum flows, and perform studies and evaluations. PPL Holtwood requests the modification of license articles that are related to the above proposed design changes

(ii) Extension of Term of License: PPL Holtwood requests a 16-year extension of the current license term to September 1, 2030.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “PROTEST,” “MOTION TO INTERVENE,” “COMMENTS,” “REPLY COMMENTS,” “RECOMMENDATIONS,” “TERMS AND CONDITIONS,” or “FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). All comments, recommendations, terms and conditions or prescriptions should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

p. As provided for in 18 CFR 4.34(b)(5)(i), a license applicant must file, no later than 60 days following the date of issuance of this notice of acceptance and ready for environmental analysis: (1) A copy of the water quality certification; (2) a copy of the request for certification, including proof of the date on which the certifying agency received the request; or (3) evidence of waiver of water quality certification.

q. e-Filing: Motions to intervene, protests, comments, recommendations, terms and conditions, and fishway prescriptions may be filed electronically via the Internet in lieu of paper. See, 18 CFR 385.2001(a)(1)(iii) and the instructions on the Commission's Web site at http://www.ferc.gov under the “e Filing” link.

Kimberly D. Bose,
Secretary.

[FR Doc. E8-3726 Filed 2-27-08; 8:45 am]

BILLING CODE 6717-01-P